DEPARTMENT OF HEALTH AND HUMAN SERVICES

Administration for Children and Families

Submission for OMB Review; Request for Assistance for Child Victims of Human Trafficking

AGENCY: Office on Trafficking in Persons, Administration for Children and Families, HHS.

ACTION: Request for Public Comment.

SUMMARY: The Administration for Children and Families (ACF), Office on Trafficking in Persons (OTIP) is requesting a three-year extension of the form: Request for Assistance (RFA) for Child Victims of Human Trafficking (OMB #0970-0362, expiration 07/31/2021). Minor revisions have been made to the form, including the addition of a few fields that will enable the OTIP Child Protection Specialist team to better understand the child's specific needs, connect the child to appropriate services, and help ensure the safety of the child.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The Trafficking Victims Protection Act (TVPA) of 2000, as amended directs the Secretary of the U.S. Department of Health and Human Services (HHS), upon receipt of credible information that a foreign national minor may have been subjected to a severe form of trafficking in persons and is seeking assistance available to victims of trafficking, to promptly determine if the child is eligible for benefits and services to the same extent as refugees. HHS delegated this authority to the Office on Trafficking in Persons (OTIP).

OTIP developed a form for case managers, attorneys, law enforcement officers, child welfare workers, and other representatives to report these trafficking concerns to HHS in accordance with the TVPA of 2000, as amended, and allow for OTIP to review the concerns and determine eligibility for benefits.

Specifically, the form asks the requester for their identifying information, identifying information for the child, and information describing the potential trafficking concerns. The form takes into consideration the need to compile information regarding a child's experiences in a trauma-informed and child-centered manner and assists the requester in assessing whether the child may have been subjected to a severe form of trafficking in persons. The information provided through the completion of a Request for Assistance (RFA) for Child Victims of Human Trafficking form enables OTIP to make prompt determinations regarding a foreign national minor's eligibility for assistance, facilitate the required consultation process should the minor receive interim assistance, and enable OTIP to assess and address potential child protection issues. OTIP also uses the information provided to respond to congressional inquiries, fulfill federal reporting requirements, and inform policy and program development that is responsive to the needs of victims.

In 2019, OTIP launched Shepherd, an online case management system, to process requests for assistance and certification on behalf of foreign national minor and adult victims of trafficking. If a requester encounters issues submitting a request through Shepherd, they may submit the RFA form to OTIP as a password protected PDF to childtrafficking@acf.hhs.gov.

Respondents: Representatives of governmental entities, members of the community, and nongovernmental entities providing social, legal, or protective services to foreign national minors in the United States who may have been subjected to severe forms of trafficking in persons. Furthermore, representatives within the community with a concern that a foreign national minor may have been subjected to severe forms of trafficking in persons may also use the RFA form.

Annual Burden Estimates
Instrument | Total number of respondents | Total number of responses per respondent | Average burden hours per response | Total burden hours | Annual burden hours
Request for Assistance for Child Victims of Human Trafficking | 1,200 | 1 | 1 | 1,200 | 400
Estimated Total Annual Burden Hours: 400.

Authority: 22 U.S.C. 7105(b).

Mary B. Jones,
ACF/OPRE Certifying Officer.

[FR Doc. 2021-14448 Filed 7-6-21; 8:45 am]

BILLING CODE 4184-47-P